DEPARTMENT OF COMMERCE

National Oceanic and Atmospheric Administration

RIN 0648-XB117

Fishing Capacity Reduction Program for the Southeast Alaska Purse Seine Salmon Fishery

AGENCY: National Marine Fisheries Service (NMFS), National Oceanic and Atmospheric Administration (NOAA), Commerce.

ACTION: Notice of referendum voting period.

SUMMARY: NMFS issues this notice to inform interested persons of the voting period for the fishing capacity reduction program referendum for the Southeast Alaska Purse Seine Salmon Fishery.

DATES: Comments must be submitted on or before 5 p.m. EST April 13, 2012.

ADDRESSES: Send comments about this notice to Paul Marx, Chief, Financial Services Division, NMFS, Attn: SE Alaska Purse Seine Salmon Buyback, 1315 East-West Highway, Silver Spring, MD 20910 (see FOR FURTHER INFORMATION CONTACT).

FOR FURTHER INFORMATION CONTACT: Michael A. Sturtevant at (301) 427-8799, fax (301) 713-1306, or michael.a.sturtevant@noaa.gov.

SUPPLEMENTARY INFORMATION:

I. Background

The Southeast Alaska purse seine salmon fishery is a commercial fishery in Alaska state waters and adjacent Federal waters. It encompasses the commercial taking of salmon with purse seine gear, and participation is limited to fishermen designated by the Alaska Commercial Fisheries Entry Commission (CFEC).

NMFS published proposed program regulations on May 23, 2011 (76 FR 29707), and final program regulations on October 6, 2011 (76 FR 61986), to implement the reduction program. NMFS published the list of eligible voters in on March 1, 2012 (77 FR 12568). Interested persons should review these for further program details. The final regulations require NMFS to publish this notice before conducting a referendum to determine the industry's willingness to repay a fishing capacity reduction loan to purchase the permits identified in the reduction submitted by the Southeast Revitalization Association and approved by NMFS.

As of February 24, 2012, there are 379 permits in the fishery designated as S01A by CFEC. These permanent permit holders are eligible to vote in the referendum. NMFS has updated the list and will mail referendum ballots to each. Mailed ballots will be accompanied by NMFS' detailed voting guidance.

The referendum voting period will start March 30, 2012 and end on April 30, 2012. Any votes not received by NMFS by 5 p.m. on April 30, 2012, will not be counted.

Dated: March 26, 2012.
Lindsay Fullenkamp,
Acting Director, Office of Management and Budget, National Marine Fisheries Service.

[FR Doc. 2012-7592 Filed 3-28-12; 8:45 am]

BILLING CODE 3510-22-P